DEPARTMENT OF THE TREASURY

Alcohol and Tobacco Tax and Trade Bureau

27 CFR Part 5

[Docket No. TTB-2012-0002; Notice No. 127A; Re: Notice No. 127]

RIN 1513-AB33

Proposed Amendment to the Standards of Identity for Distilled Spirits; Comment Period Extension

AGENCY: Alcohol and Tobacco Tax and Trade Bureau, Treasury.

ACTION: Notice of proposed rulemaking; extension of comment period.

SUMMARY: The Alcohol and Tobacco Tax and Trade Bureau (TTB) is extending the comment period for Notice No. 127, Proposed Amendment to the Standards of Identity for Distilled Spirits, for an additional 10 days. In Notice No. 127, a notice of proposed rulemaking published in the Federal Register on April 30, 2012, TTB proposes to amend the standards of identity regulations for distilled spirits to include “Cachaça” as a type of rum distinctive to Brazil.

DATES: Written comments on Notice No. 127 are now due on or before July 9, 2012.

ADDRESSES: You may send comments on Notice No. 127 to one of the following addresses:

• http://www.regulations.gov: To submit comments via the Internet, use the comment form for Notice No. 127 as posted within Docket No. TTB-2012-0002 on “Regulations.gov,” the Federal e-rulemaking portal;

• U.S. Mail: Director, Regulations and Rulings Division, Alcohol and Tobacco Tax and Trade Bureau, P.O. Box 14412, Washington, DC 20044-4412.

• Hand Delivery/Courier in Lieu of Mail: Alcohol and Tobacco Tax and Trade Bureau, 1310 G Street NW., Suite 200-E, Washington, DC 20005.

See the Public Participation section of this notice for specific instructions and requirements for submitting comments, and for information on how to request a public hearing.

You may view copies of all rulemaking documents, supporting materials, and any comments related to this proposal within Docket No. TTB-2012-0002 at http://www.regulations.gov. A link to the docket is posted on the TTB Web site at http://www.ttb.gov/regulations_laws/all_rulemaking.shtml under Notice No. 127. You also may view copies of all related rulemaking documents, supporting materials, and any comments related to this proposal by appointment at the TTB Information Resource Center, 1310 G Street NW., Washington, DC 20005. Please call 202-453-2270 to make an appointment.

FOR FURTHER INFORMATION CONTACT: Christopher M. Thiemann, Regulations and Rulings Division, Alcohol and Tobacco Tax and Trade Bureau, 1310 G Street NW., Suite 200E, Washington, DC 20005; telephone 202-453-1039, ext. 138.

SUPPLEMENTARY INFORMATION: In Notice No. 127, published in the Federal Register on April 30, 2012, at 77 FR 25382, the Alcohol and Tobacco Tax and Trade Bureau (TTB) proposes to amend its regulations concerning the standards of identity for distilled spirits at 27 CFR 5.22 to include “Cachaça” as a type of rum and as a distinctive product of Brazil. TTB undertook this rulemaking action in response to a petition from the Government of Brazil, and in response to an agreement between the United States and Brazil setting out a procedure that could lead each party to recognize certain distinctive distilled spirits produced in the other party's territory. The agreement provides in part that if, following the publication of a notice of proposed rulemaking, the United States publishes a final rule that lists Cachaça as a type of rum distinctive to Brazil, then Brazil, within 30 days thereafter, will recognize Bourbon Whiskey and Tennessee Whiskey as distinctive products of the United States.

The 60-day comment period for Notice No. 127 originally was set to close on June 29, 2012. On June 15, 2012, TTB received a comment from the European Union requesting an extension of the comment period “in order to have time to analyze and prepare comments” on the proposal (see Comment 4 within Docket No. TTB-2012-0002). In response to this request, TTB is extending the comment period for an additional 10 days, and, therefore, comments on Notice No. 127 are now due on or before July 9, 2012.

Drafting Information

Michael D. Hoover of the Regulations and Rulings Division drafted this notice.

Signed: June 26, 2012.
John J. Manfreda,
Administrator.

[FR Doc. 2012-16087 Filed 6-28-12; 8:45 am]

BILLING CODE 4810-31-P